DEPARTMENT OF COMMERCE

[Docket No. 131202999-3999-01]

Privacy Act of 1974; Altered System of Records

AGENCY: U.S. Census Bureau, Department of Commerce.

ACTION: Notice of Amendment, Privacy Act System of Records, COMMERCE/CENSUS-5, Decennial Census Program.

SUMMARY: In accordance with the Privacy Act of 1974, as amended, 5 U.S.C. 552A(e)(4) and (11); and Office of Management and Budget (OMB) Circular A-130, Appendix I, “Federal Agency Responsibilities for Maintaining Records About Individuals”, the Department of Commerce is issuing notice of intent to amend the system of records under COMMERCE/CENSUS-5, Decennial Census Program. This amendment would update: The categories of individuals and records covered by the system of records; the authorities for maintenance of the system of records; the system manager and address; the policies and practices for storage, retention, disposal, and safeguarding the system of records; and record source categories. This amendment also makes other minor administrative updates. Accordingly, the COMMERCE/CENSUS-5, Decennial Census Program notice published in the Federal Register on March 18, 2010 (75 FR 13076), is amended as below. We invite public comment on the system amendment announced in this publication.

DATES: To be considered, written comments on the proposed amendments must be submitted on or before March 26, 2014.

Effective Date: Unless comments are received which necessitate modification, the amended system of records will become effective as proposed on the date of publication of a subsequent notice in the Federal Register.

ADDRESSES: Please address comments to: Byron Crenshaw, Privacy Compliance Branch, Room—8H021, U.S. Census Bureau, Washington, DC 20233-3700.

SUPPLEMENTARY INFORMATION: This update makes six program-related changes. The first of six proposed changes to program-related provisions updates the categories of individuals covered by the system to provide additional information and detail including information regarding employee data and paradata. Census Bureau employee characteristics and auxiliary data known as paradata also collected during census and survey interviews, pilot tests, and cognitive interviews are covered under the authority of 5 U.S.C. 301 as described in Systems of Record Notice covered under SORN COMMERCE/Census-2, Performance Measurement Records. The second proposed change updates the categories of records in the system to provide additional categories including categories associated with new technologies, e.g., GPS coordinates, mobile device ID, etc. The third proposed change updates the authorities to add the anti-wire tapping law due to the inclusion of recordings of census and survey interviews, cognitive interviews and pilot tests. The fourth proposed change updates the policies and practices for storing (including recordings of the American Community Survey and the Decennial Census of Population and Housing, cognitive and pilot test interviews), retaining and disposing, and safeguarding the records. The fifth proposed change updates the system manager and address. The sixth proposed change updates the record source categories to provide more information and detail regarding external source records. This amendment also provides minor administrative updates to the purpose, routine uses and retrievability of the system of records. The entire resulting system of records notice, as amended, appears below.

COMMERCE/CENSUS-5

System Name:

Decennial Census Program.

Security Classification:

None.

System Location:

U.S. Census Bureau, 4600 Silver Hill Road, Washington, DC 20233-8100; Bureau of the Census, Bowie Computer Center, 17101 Medford Boulevard, Bowie, Maryland 20715.

Categories of Individuals Covered by the System:

All persons surveyed during the ongoing American Community Survey and all persons counted during the Decennial Census of Population and Housing as well as all persons counted in any pilot census and survey tests of procedures related to the American Community Survey and the Decennial Census of Population and Housing are covered by the system. Participation in the decennial censuses (the American Community Survey and the Decennial Census of Population and Housing) as well as all of the pilot censuses is mandatory. Data collected directly from respondents may be supplemented with data from administrative record files received from other federal, state, or local agencies. Comparable data may also be obtained from private persons and commercial sources. These are collected and processed under the Statistical Administrative Records System. Please see the COMMERCE/CENSUS-8, Statistical Administrative Records System SORN for more information. Field Representative (FR) and interviewer characteristics as well as paradata collected during the American Community Survey and the Decennial Census of Population and Housing (including the same data obtained during recordings) are covered under SORN COMMERCE/Census-2, Performance Measurement Records.

Categories of Records in the System:

Records collected by the American Community Survey and its pilot surveys may contain information such as: Population information—name, address, email address, telephone number (both landline and cell phone number), driver's license number, age, sex, race, Hispanic origin, relationships, housing tenure, number of persons in the household, as well as more detailed information on topics such as, marital status and history, fertility, income, employment, education, health insurance or health coverage plans, disability, grandparents as care-givers, and military status and history; Housing information—year built, structure description, uses, features, amenities, number of rooms, utilities, purchase type (e.g., mortgage or deed of trust), and financial characteristics (e.g., home value, property taxes, etc.). Records collected during the Decennial Census of Population and Housing and its pilot censuses may contain information such as: Population information—name, address, email address, telephone number (both landline and cell phone number), age, sex, race, Hispanic origin, relationship, housing tenure, number of persons in the household, number of persons in the household not permanent residents, and whether residents sometimes live somewhere else. Additionally, records collected by the Decennial Census of Population and Housing, the American Community Survey, and their cognitive interviews and pilot tests may collect other information including: GPS coordinates, IP address, mobile device ID, and record identification number. GPS coordinates, IP addresses, and mobile device ID may be collected when a mobile device is used to respond to the Decennial Census of Population and Housing, the American Community Survey, and pilot tests. In accordance with 13 U.S.C., Section 6(c), information in the American Community Survey and Decennial Census of Population and Housing may, under specific circumstances and arrangements, also come from administrative records obtained from federal, states, counties, cities, or other units of government. Comparable data may also be obtained from private persons and commercial sources. For instance, the U.S. Census Bureau works with all Federal agencies to obtain counts from their records of federally affiliated Americans overseas. The U.S. Census Bureau also makes arrangements with certain types of facilities (e.g., prisons, long-term care facilities, colleges) to obtain administrative records data on individuals when direct enumeration of those people is not feasible for safety, health, or other reasons. Additional information may be obtained from systems of records notice COMMERCE/CENSUS-8, Statistical Administrative Records. Pilot censuses, surveys, and research study records may contain information on individuals similar to that included in the American Community Survey and Decennial Census of Population and Housing. Field Representative (FR) and interviewer characteristics as well as paradata collected during the American Community Survey and the Decennial Census of Population and Housing (including data obtained during recordings) are covered under SORN COMMERCE/Census-2, Performance Measurement Records.

Authorities for Maintenance of the System

13 U.S.C., Sections 6 (c), 141 and 193 and (18 U.S.C. 2510-2521).

Purpose(s):

The purpose of this system is to collect statistical information from respondents for the Decennial Census Program, which includes both the American Community Survey and the Decennial Census of Population and Housing using responses to questions in order to provide key social, housing, and economic data for the nation. The American Community Survey, the Decennial Census of Population and Housing, and pilot census and survey records also are maintained to conduct research and analysis with survey and administrative data for projects and to undertake methodological evaluations and enhancements by the U.S. Census Bureau improving data collection and quality control. Also, information collected by the Decennial Census of Population and Housing is used to provide official census transcripts of the results to the named person(s), their heirs, or legal representatives as described in the system of records notice, COMMERCE/CENSUS-6, Population Census Personal Service Records for 1910 and All Subsequent Decennial Censuses (this does not apply to the American Community Survey and pilot census or survey records).

Routine Uses of Records Maintained in the System, Including Categories of Users and the Purposes of Such Uses:

The data will be used only for statistical purposes. No disclosures which permit the identification of individual respondents, and no determinations affecting individual respondents will be made.

Disclosure to Consumer Reporting Agencies:

None.

Policies and Practices for Storing, Retrieving, Accessing, Retaining, and Disposing of Records in the System:

Storage:

Records (including, but not limited to, sound and video files of survey and cognitive interviews, and pilot tests) are stored in a secure computerized system and on magnetic media; output data will be either electronic or paper copies (including transcripts of sound files). Paper copies or magnetic media are stored in a secure area within a locked drawer or cabinet. Datasets may be accessed only by authorized personnel. Control lists will be used to limit access to those employees with a need to know; rights will be granted based on job functions.

Retrievability:

Information for the Decennial Census of Population and Housing and for the American Community Survey and their pilot tests may be retrieved by direct identifiers such as name and address. However, a limited number of sworn U.S. Census Bureau staff will be permitted to retrieve records containing direct identifiers (such as name or address) for authorized purposes. Staff producing final statistical products will have access only to data sets from which direct identifiers have been deleted and replaced by unique non-identifying codes internal to the U.S. Census Bureau.

Safeguards:

The U.S. Census Bureau is committed to respecting respondent privacy and protecting confidentiality. Through the Data Stewardship Program, we have implemented management, operational, and technical controls and practices to ensure high-level data protection to respondents of our census and surveys. (1) An unauthorized browsing policy Federal Register/Vol. 77, No. 17/Thursday, January 26, 2012/Notices protects respondent information from casual or inappropriate use by any person with access to Title 13 protected data. (2) All employees permitted to access the system are subject to the restriction, penalties, and prohibitions of 13 U.S.C. 9 and 214, as modified by Title 18 U.S.C. 3551, et seq.; the Privacy Act of 1974 (5 U.S.C. 552a(b)(4)). (3) All U.S. Census Bureau employees and persons with special sworn status will be regularly advised of regulations issued pursuant to Title 13 U.S.C. governing the confidentiality of the data, and will be required to complete an annual Title 13 awareness program. (4) All computer systems that maintain sensitive information are in compliance with the Federal Information Security Management Act, which includes auditing and controls over access to restricted data. (5) The use of unsecured telecommunications to transmit individually identifiable information is prohibited. (6) Paper copies that contain sensitive information are stored in secure facilities in a locked drawer or file cabinet behind a locked door. (7) Additional data files containing direct identifiers will be maintained solely for the purpose of data collection activities, such as respondent contact and preloading an instrument for a continued interview, and will not be transferred to, or maintained on, working statistical files. (8) Any publications based on this system will be cleared for release under the direction of the U.S. Census Bureau's Disclosure Review Board, which will confirm that all the required disclosure avoidance procedures have been implemented and no information that identifies any individual is released.

Retention and Disposal:

American Community Survey, Decennial Census of Population and Housing, and pilot census or survey respondent data, including personally identifying data, are generally captured as images suitable for computer processing. Original paper data sources are destroyed, according to the disposal procedures for Title 13 records, after confirmation of successful electronic data capture and data transmission of the images to U.S. Census Bureau headquarters. For the American Community Survey, personally identifying data are scheduled for permanent retention (excluding sound and video files that are retained in accordance with the General Records Schedule and U.S. Census Bureau records control schedules that are approved by the National Archives and Records Administration (NARA).

For the Decennial Census of Population and Housing, a record of individual responses, including all names and other entries provided by the respondent, and all associated address and geographic information for each housing unit or person living in group quarters is scheduled for permanent retention (excluding sound and video files that are retained in accordance with the General Records Schedule and U.S. Census Bureau records control schedules that are approved by the NARA). Pilot and cognitive test data collections, data capture, and data processing records are destroyed within two years or when no longer needed for U. S. Census Bureau program or evaluation purposes, whichever is later. All records are retained in accordance with the General Records Schedule and U.S. Census Bureau records control schedules that are approved by the NARA (Title 44, U.S.C., Section 2108).

System Manager(s) and Address:

Associate Director for Decennial Census, U.S. Census Bureau, 4600 Silver Hill Road, Washington, DC 20233-8000.

Associate Director for 2020 Census, U.S. Census Bureau, 4600 Silver Hill Road, Washington, DC 20233-8000.

Notification Procedure:

None.

Record Access Procedures:

None.

Contesting Record Procedures:

None.

Record Source Categories:

Information in the Decennial Census of Population and Housing and the American Community Survey may come from administrative records from federal, states, counties, cities, or other units of government such as: The U.S. Department of Defense and the U.S. Office of Personal Management for enumeration of federally affiliated Americans overseas; tribal, State, and local governments for service-based enumeration of persons without permanent shelter and for address and road updates; the Federal Bureau of Prisons for inmate enumeration; the U.S. Postal Service for address updates; as well as the Departments of Agriculture, Education, Health and Human Services, Homeland Security, Housing and Urban Development, Labor, Treasury, Veterans Affairs, the Office of Personnel Management, the Social Security Administration, the Selective Service System, and the U.S. Postal Service. Comparable data may also be obtained from private persons and commercial sources.

Exemptions Claimed for System:

Pursuant to 5 U.S.C. 552a (k)(4), this system of records is exempted from the otherwise applicable notification, access, and contest requirements of the agency procedures (under 5 U.S.C. 552a (c)(3), (d), (e)(1), (e)(4)(G), (H) and (I) and (f)). This exemption is applicable because the data are maintained by the U.S. Census Bureau solely as statistical records, as required under Title 13 U.S.C., to be used solely as statistical records and are not used in whole or in part in making any determination about an identifiable individual. This exemption is made in accordance with the Department's rules, which appear in 15 CFR part 4 subpart B.

Dated: February 10, 2014.
Brenda Dolan,
Department of Commerce, Freedom of Information/Privacy Act Officer.

[FR Doc. 2014-03860 Filed 2-21-14; 8:45 am]

BILLING CODE 3510-07-P